DEPARTMENT OF VETERANS AFFAIRS

[OMB Control No. 2900—NEW]

Agency Information Collection Activity: Study on Provision of Interments in Veterans' Cemeteries During Weekends

AGENCY: National Cemetery Administration, Department of Veterans Affairs.

ACTION: Emergency Clearance Notification.

SUMMARY: In compliance with the Paperwork Reduction Act (PRA) of 1995, the Department of Veterans Affairs (VA) is providing notice of its agency request for emergency clearance for the “Study on Provision of Interments in Veterans' Cemeteries during Weekends” under the National Cemetery Administration (NCA). In response to the requirements of Public Law 114-315, enacted December 16, 2016, it is a requirement to conduct a study of interest in initiating a weekend burial option in VA national cemeteries. Specifically, Section 304 calls for the study on provision of interments to include consultation with interested agencies and members of the public.

DATES: This notification is published in the Federal Register to inform the public of VA's study. May 22, 2017.

FOR FURTHER INFORMATION CONTACT: Cynthia Harvey-Pryor, Enterprise Records Service (005R1B), Department of Veterans Affairs, 810 Vermont Avenue NW., Washington, DC 20420, at 202-461-5870 or email cynthia.harvey-pryor@va.gov.

SUPPLEMENTARY INFORMATION: Under the PRA of 1995, Federal agencies must obtain approval from the Office of Management and Budget (OMB) for each collection of information they conduct or sponsor. This clearance request is being made pursuant to Section 3506(c)(2)(A) of the PRA. Public Law 114-315, section 304, enacted by the U.S. Congress and signed by the President on December 16, 2016, makes a specific request for the collection and reporting of the information covered by this request. Neither the Department of Veterans Affairs nor the National Cemetery Administration has conducted any collection of data specifically targeted to this topic. This request is for emergency OMB clearance to conduct collection of information. Submission of the report is required within 180 days of the enactment of Public Law 114-315. This makes the report due not later than June 16, 2017.

Authority: Authority: 44 U.S.C. 3501-3521; Public Law 114-315.

Title: Study on Provision of Interments in Veterans Cemeteries during Weekends.

OMB Control Number: 2900-NEW.

Type of Review: Emergency clearance.

Abstract: As stated in the referenced law, “The Secretary of Veterans Affairs shall conduct a study on the feasibility and the need for providing increased interments in veterans' cemeteries on Saturdays and Sundays to meet the needs of surviving family members to properly honor the deceased.” The information collected shall be used to provide the data to be included in the reporting on the required study. The survey will be distributed by email, with participants being asked to respond to the survey via an internet web link. Collected responses will immediately be available as part of the composite report.

Affected Public: Individuals or Households; State, Local and Tribal Governments.

Estimated Annual Burden: 13,097 hours.

Estimated Average Burden Per Respondent: 5 minutes.

Frequency of Response: One time only.

Estimated Number of Respondents: 157,168.

a. Living Veteran: 130,000;

b. Next of Kin of Veterans or eligible family member interred in a national cemetery: 10,000;

c. Managers of State or Tribal Veterans Cemeteries: 150;

d. Veterans Service Organizations: 18;

e. Funeral Directors: 17,000.

By direction of the Secretary.
Cynthia Harvey-Pryor,
Department Clearance Officer, Enterprise Records Service, Office of Quality and Compliance, Department of Veterans Affairs.

[FR Doc. 2017-10361 Filed 5-19-17; 8:45 am]

BILLING CODE 8320-01-P